DEPARTMENT OF TRANSPORTATION

Federal Aviation Administration

14 CFR Part 39

[Docket No. FAA-2013-0091; Directorate Identifier 2013-NM-016-AD; Amendment 39-17366; AD 2013-02-51]

RIN 2120-AA64

Airworthiness Directives; The Boeing Company Airplanes

AGENCY: Federal Aviation Administration (FAA), DOT.

ACTION: Final rule; request for comments.

SUMMARY: We are adopting a new airworthiness directive (AD) for all The Boeing Company Model 787-8 airplanes. This emergency AD was sent previously to all known U.S. owners and operators of these airplanes. This AD requires modification of the battery system, or other actions. This AD was prompted by recent incidents involving lithium ion battery failures that resulted in release of flammable electrolytes, heat damage, and smoke. We are issuing this AD to correct damage to critical systems and structures, and the potential for fire in the electrical compartment.

DATES: This AD is effective February 22, 2013 to all persons except those persons to whom it was made immediately effective by Emergency AD 2013-02-51, issued on January 16, 2013, which contained the requirements of this amendment.

We must receive comments on this AD by April 8, 2013.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

Examining the AD Docket

You may examine the AD docket on the Internet at http://www.regulations.gov; or in person at the Docket Operations Office between 9 a.m. and 5 p.m., Monday through Friday, except Federal holidays. The AD docket contains this AD, the regulatory evaluation, any comments received, and other information. The street address for the Docket Operations Office (phone: 800-647-5527) is in the ADDRESSES section. Comments will be available in the AD docket shortly after receipt.

FOR FURTHER INFORMATION CONTACT: Robert Duffer, Manager, Systems and Equipment Branch, ANM-130S, FAA, Seattle Aircraft Certification Office, 1601 Lind Avenue SW., Renton, Washington 98057-3356; phone: 425-917-6493; fax: 425-917-6590; email: Robert.Duffer@faa.gov.

SUPPLEMENTARY INFORMATION:

Discussion

On January 16, 2013, we issued Emergency AD 2013-02-51, which requires modification of the battery system, or other actions. This emergency AD was sent previously to all known U.S. owners and operators of these airplanes. This action was prompted by recent incidents involving lithium ion battery failures that resulted in release of flammable electrolytes, heat damage, and smoke on two Model 787-8 airplanes. The cause of these failures is currently under investigation. These conditions, if not corrected, could result in damage to critical systems and structures, and the potential for fire in the electrical compartment.

FAA's Determination

We are issuing this AD because we evaluated all the relevant information and determined the unsafe condition described previously is likely to exist or develop in other products of the same type design.

AD Requirements

This AD requires modification of the battery system, or other actions, in accordance with a method approved by the Manager, Seattle Aircraft Certification Office (ACO), FAA.

Interim Action

We consider this AD interim action. As the investigation progresses, we might determine that additional action is necessary.

FAA's Determination of the Effective Date

An unsafe condition exists that requires the immediate adoption of this AD. The FAA has found that the risk to the flying public justifies waiving notice and comment prior to adoption of this rule because of recent incidents involving lithium ion battery failures that resulted in release of flammable electrolytes, heat damage, and smoke on two Model 787-8 airplanes. These conditions, if not corrected, could result in damage to critical systems and structures, and the potential for fire in the electrical compartment. Therefore, we find that notice and opportunity for prior public comment are impracticable and that good cause exists for making this amendment effective in less than 30 days.

Comments Invited

This AD is a final rule that involves requirements affecting flight safety and was not preceded by notice and an opportunity for public comment. However, we invite you to send any written data, views, or arguments about this AD. Send your comments to an address listed under the ADDRESSES section. Include the docket number FAA-2013-0091; and Directorate Identifier 2013-NM-016-AD at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD affects 6 airplanes of U.S. registry.

Currently, we have received no definitive data that would enable us to provide cost estimates for the actions required by this AD. As indicated earlier in this preamble, we specifically invite the submission of comments and other data regarding the costs of this AD.

Authority for This Rulemaking

Title 49 of the United States Code specifies the FAA's authority to issue rules on aviation safety. Subtitle I, section 106, describes the authority of the FAA Administrator. Subtitle VII: Aviation Programs describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2013-02-51 The Boeing Company: Amendment 39-17366; Docket No. FAA-2013-0091; Directorate Identifier 2013-NM-016-AD.

(a) Effective Date

This AD is effective February 22, 2013 to all persons except those persons to whom it was made immediately effective by Emergency AD 2013-02-51, issued on January 16, 2013, which contained the requirements of this amendment.

(b) Affected ADs

None.

(c) Applicability

This AD applies to all The Boeing Company Model 787-8 airplanes, certificated in any category.

(d) Subject

Joint Aircraft System Component (JASC)/Air Transport Association (ATA) of America Code 24, Electrical power.

(e) Unsafe Condition

This AD was prompted by recent incidents involving lithium ion battery failures that resulted in release of flammable electrolytes, heat damage, and smoke on two Model 787-8 airplanes. The cause of these failures is currently under investigation. We are issuing this AD to prevent damage to critical systems and structures, and the potential for fire in the electrical compartment.

(f) Compliance

Comply with this AD within the compliance times specified, unless already done.

(g) Modification or Other Action

Before further flight, modify the battery system, or take other actions, in accordance with a method approved by the Manager, Seattle Aircraft Certification Office (ACO), FAA.

(h) Alternative Methods of Compliance (AMOCs)

(1) The Manager, Seattle ACO, FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be emailed to: 9-ANM-Seattle-ACO-AMOC-Requests@faa.gov.

(2) Before using any approved AMOC, notify your appropriate principal inspector, or lacking a principal inspector, the manager of the local flight standards district office/certificate holding district office.

(i) Related Information

For more information about this AD, contact: Robert Duffer, Manager, Systems and Equipment Branch, ANM-130S, FAA, Seattle Aircraft Certification Office, 1601 Lind Avenue SW., Renton, Washington 98057-3356; phone: 425-917-6493; fax: 425-917-6590; email: Robert.Duffer@faa.gov.

(j) Material Incorporated by Reference

None.

Issued in Renton, Washington, on February 1, 2013.
Ali Bahrami,
Manager, Transport Airplane Directorate, Aircraft Certification Service.

[FR Doc. 2013-04004 Filed 2-21-13; 8:45 am]

BILLING CODE 4910-13-P